ENVIRONMENTAL PROTECTION AGENCY

[Docket No. RCRA-2003-0012; FRL-7506-9]

Announcement of a Public Stakeholder Meeting on Management of Hazardous Waste in Research and/or Academic Laboratories

AGENCY: Environmental Protection Agency (EPA).

ACTION: Notice of a public stakeholder meeting.

SUMMARY: EPA's Office of Solid Waste is holding a public meeting on Wednesday, June 18, 2003, to discuss issues associated with hazardous waste management in research and/or academic laboratories. The purpose of this meeting is to present our progress to date on issues specific to waste management in research and academic laboratories and solicit input from individual stakeholders on approaches to addressing these issues. A tentative agenda is available upon request. The following topics are planned for discussion: when/where to make a hazardous waste determination, waste labeling requirements, personnel training requirements, satellite accumulation, and types of treatment that are performed in laboratories. Interested parties may choose to attend the meeting or submit written comment. The Agency's goal is to improve the program to better protect human health and the environment through standards that are harmonious with the way laboratories operate.

DATES: The stakeholder meeting is scheduled for Wednesday, June 18 from 12 p.m. to 5 p.m. eastern time. Submit written comments on or before July 18.

ADDRESSES: EPA will hold the meeting in Washington, DC at EPA East (Conference Room 1153), 1201 Constitution Ave., NW. Interested parties also may participate via videoconferencing at the following locations:

1. North Chelmsford—EPA Region I Laboratory (Kennebunkport Room), 11 Technology Drive, North Chelmsford, MA 01863.

2. Chicago—EPA Region V Office (Lake Erie Conference Room), 77 W. Jackson Blvd., Chicago, IL 60604.

3. San Francisco—EPA Region IX Office (Conference Room R1915), 75 Hawthorne Street, San Francisco, CA 94105.

Comments may be submitted electronically, by mail, by facsimile, or through hand delivery/courier. Follow the detailed instructions as provided in Unit I.C. of the SUPPLEMENTARY INFORMATION section.

FOR FURTHER INFORMATION CONTACT: Kate Davis, Office of Solid Waste (5304W), Environmental Protection Agency, 1200 Pennsylvania Avenue, NW., Washington, DC 20460; telephone number: (703) 308-0091; fax number: (703) 308-0514; e-mail address: davis.kate@epa.gov.

SUPPLEMENTARY INFORMATION:

I. General Information

A. Does This Meeting Apply To Me?

While the meeting is open to the public in general, the identified topics may be of particular interest to persons who work in research and/or academic laboratory settings or persons who are concerned about the implementation of the Resource Conservation and Recovery Act (RCRA) in these settings. Potentially interested parties may include but are not limited to: Government laboratories; research and development laboratories; academic laboratories; Federal, State and local regulators; academic institutions; non-governmental organizations; and trade associations representing environmental health and safety professionals at research and/or academic laboratories. If you have any questions regarding the applicability of this meeting to a particular entity, consult the person listed under FOR FURTHER INFORMATION CONTACT.

B. How Can I Get Electronic Access to This Document and Other Related Information?

1. Docket. EPA has established an official public docket for this action under Docket ID No. RCRA-2003-0012. The official public docket consists of the documents specifically referenced in this action, any public comments received, and other information related to this action. Although a part of the official docket, the public docket does not include Confidential Business Information (CBI) or other information whose disclosure is restricted by statute. The official public docket is the collection of materials that is available for public viewing at the EPA Docket Center, (EPA/DC) EPA West, Room B102, 1301 Constitution Ave., NW., Washington, DC. The EPA Docket Center Public Reading Room is open from 8:30 a.m. to 4:30 p.m., Monday through Friday, excluding legal holidays. The telephone number for the Reading Room is (202) 566-1742, and the telephone number for the EPA Docket Center is (202) 566-0270.

2. Electronic Access. You may access this Federal Register document electronically through the EPA Internet under the “Federal Register” listings at http://www.epa.gov/fedrgstr/. An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

For additional information about EPA's electronic public docket visit EPA Dockets online or see 67 FR 38102, May 31, 2002.

C. How and to Whom Do I Submit Comments?

You may submit comments electronically, by mail, by facsimile, or through hand delivery/courier. To ensure proper receipt by EPA, identify the appropriate docket identification number in the subject line on the first page of your comment. Please ensure that your comments are submitted within the specified comment period. Comments received after the close of the comment period will be marked “late.” EPA is not required to consider these late comments. However, late comments may be considered if time permits.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” Once in the system, select “search,” and then key in Docket ID No. RCRA-2003-0012. The system is an “anonymous access” system, which means EPA will not know your identity, e-mail address, or other contact information unless you provide it in the body of your comment.

ii. E-mail. Comments may be sent by electronic mail (e-mail) to rcra-docket@epa.gov, Attention Docket ID No. RCRA 2003-0012. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit 1.C.2. These electronic submissions will be accepted in WordPerfect or ASCII file format. Avoid the use of special characters and any form of encryption.

2. By Mail. Send your comments to: OSWER Docket, EPA Docket Center, Environmental Protection Agency, Mailcode: 5305T, 1200 Pennsylvania Ave., NW., Washington, DC 20460, Attention Docket ID No. RCRA-2003-0012.

3. By Hand Delivery or Courier. Deliver your comments to: OSWER Docket, EPA Docket Center, 1301 Constitution Avenue, NW., EPA West Building, Room B-102, Washington, DC, 20004, Attention Docket ID No. RCRA-2003-0012. Such deliveries are only accepted during the Docket's normal hours of operation as identified in Unit I.B.1.

4. By Facsimile. Fax your comments to: (202) 566-0224, Attention Docket ID. No. RCRA-2003-0012.

II. Background

EPA recognizes the unique aspects of research and academic laboratories compared with large manufacturing processes. For example, research and academic laboratories generate small amounts of many different wastes while large manufacturing processes tend to generate large amounts of a few wastes. EPA supports developing environmentally safe management alternatives for hazardous wastes in research and academic laboratories. The Agency has participated in several efforts to explore alternatives that may help target the unique lab practices and wastes more effectively. Recent efforts include the New England Labs XL project and the Howard Hughes Medical Institute (HHMI) Best Management Practices. NE Labs XL is testing the development and implementation of an Environmental Management Plan designed to minimize and more effectively manage hazardous laboratory wastes (http://www.epa.gov/projectxl/nelabs/index.htm). HHMI partnered with EPA to identify best practices for managing hazardous wastes in academic research institutions (http://www.epa.gov/epaoswer/osw/specials/labwaste/r02008.pdf). The June public stakeholder meeting builds on these efforts.

III. Tentative Agenda

Copies of the tentative agenda for this meeting are available via mail, fax, or e-mail. If you would like a copy, please contact the person listed under FOR FURTHER INFORMATION CONTACT.

IV. How Can I Participate in This Meeting?

You may attend this meeting in person or submit a written comment. The meeting locations have the following capacities: Washington DC, 100 people; North Chelmsford, 50 people; Chicago, 30 people; San Francisco, 17 people. Members of the public wishing to have access to the Headquarters or Regional conference rooms on the day of the meeting should register by June 11 by contacting Kate Davis, Office of Solid Waste (5304W), Environmental Protection Agency, 1200 Pennsylvania Avenue, NW., Washington, DC 20460; telephone number: (703) 308-0091; fax number: (703) 308-0514; e-mail address: davis.kate@epa.gov. A photo ID will be required to gain access to Headquarters and Regional conference rooms. Any person needing special accessibility accommodations at this meeting should contact the person identified above at least five business days before the meeting so we can make the appropriate arrangements.

Any person who wishes to file a written statement may do so before July 18. EPA has established an official public docket for this action under Docket ID No. RCRA-2003-0012. Please see Unit I.C. for instructions on how to submit written comments.

V. On What Issues Will EPA Be Soliciting Input?

Stakeholders repeatedly have identified three issues: hazardous waste determination, satellite accumulation, and treatment in satellite accumulation areas.

Hazardous Waste Determination: Currently, you must make a hazardous waste determination at the “point of generation” of a waste.

1. When should the hazardous waste determination be made in a laboratory setting?

2. What training is needed for lab personnel concerning hazardous waste determinations (e.g., full RCRA training or training that is made specific to chemical management duties)?

3. How should waste be labeled so it can be appropriately managed as hazardous waste (e.g., the words “hazardous waste” or a detailed chemical description)?

4. Where should the hazardous waste determination be made (e.g., on the bench or in the 90 to 180 day storage area)?

Satellite Accumulation Area (SAA) Accumulation Time: If more than 55 gallons of hazardous waste or more than 1 quart of acute hazardous waste is accumulated at a SAA, the excess must be removed within three days.

1. How should these requirements be applied in a laboratory context?

2. How often do laboratories accumulate more than 55 gallons of waste in their SAA?

3. What, if any, difficulties do environmental health and safety personnel have responding to waste pick-up calls, e.g., within the three day time limit?

4. How would a longer time-frame for removal impact the cost of waste management and the ability to protect human health and the environment?

Treatment in SAAs: We have heard from numerous stakeholders that they would like to perform certain types of treatment.

1. What types of treatment, other than neutralization, are laboratory personnel currently performing or would like to perform?

2. What would be the benefits of the desired types of treatment?

Other Issues: The Agency also solicits your thoughts on other issues specific to research and academic laboratories. In reviewing issues raised by hazardous waste identification and management in laboratories, we will particularly focus on the way laboratories operate, and we will also take into account factors such as regulatory burden, cost, and protection of human health and the environment.

Matt Hale,
Acting Director, Office of Solid Waste.

[FR Doc. 03-13886 Filed 6-2-03; 8:45 am]

BILLING CODE 6560-50-P